DEPARTMENT OF THE INTERIOR

Bureau of Indian Affairs

Submission of Paperwork Reduction Act Request to Office of Management and Budget

AGENCY: Office of Self-Governance and Self-Determination, Interior.

ACTION: Notice.

SUMMARY: This notice announces that the Information Collection Request regarding revision of the Job Placement and Training Application, OMB Control No. 1076-0062, has been submitted to the Office of Management and Budget (OMB) for approval under the provisions of the Paperwork Reduction Act.

DATES: Submit your comments and suggestions on or before April 8, 2004.

ADDRESSES: Written comments should be sent directly to the Office of Management and Budget, Office of Information and Regulatory Affairs, Attention: Desk Officer for the Department of the Interior. You may submit your comments by e-mail at OIRA_DOCKET@omb.eop.gov or by facsimile to 202-395-6566.

Send a copy of your comments to Lynn Forcia, Office of Self-Governance and Self-Determination, 1849 C Street, NW., Mail-Stop 2412 MIB, Washington, DC 20240.

FOR FURTHER INFORMATION CONTACT: Copies of the information collection form may be obtained by contacting Lynn Forcia at 202-219-5270. (This is not a toll free number.)

SUPPLEMENTARY INFORMATION:

Abstract

The information collection process is necessary to assess work history and training needs of adult Indians who reside on or near Indian reservations and who desire to obtain reasonable and satisfactory employment. The information collection document provides data necessary to administer the Job Placement and Training program. A previous version of this document has already been approved by OMB and is now in use. The document has been revised to better meet its purposes. The Secretary is authorized to undertake a program of Job Placement, which may include financial assistance, vocational training (including apprenticeships and on-the-job training), counseling, guidance, and related services for any recognized vocation. The program is available to Indians who are not less than 18 years old and who reside on or near an Indian reservation (and in Alaska). Public Law 84-959, as amended, authorizes the Secretary to enter into contracts or agreements with Federal, State or local government agencies, or with associations with programs, apprenticeship programs or on-the-job training programs that lead to skilled employment. Eligible tribes and tribal organizations may administer the Job Placement portion of these programs or the Job Training portion or both. The same application form is used for both 25 CFR Parts 26, Employment Assistance for Adult Indians, and 27, Vocational Training for Adult Indians. Information of a confidential nature is protected by the Privacy Act. A request for comments on this information collection was published in the Federal Register on November 7, 2003 (68 FR 63127). No comments were received.

Request for Comments

Comments are invited on (a) whether the information collection is necessary for the proper performance of the functions of the agency, including whether the information will have practical utility; (b) the accuracy of the agency's estimate of the burden (hours and cost) of the collection of information, including the validity of the methodology and assumptions used; (c) ways to enhance the quality, utility and clarity of the information to be collected; and (d) ways to minimize the burden of the collection of the information on the respondents, including through the use of automated collection techniques or other forms of information technology.

The Office of Management and Budget has up to 60 days to approve or disapprove the information collection form, but may respond after 30 days; therefore, comments submitted in response to this notice should be submitted to OMB within 30 days in order to assure their maximum consideration.

Please note that all comments are available for public review during regular office hours. If you wish to have your name and/or address withheld, you must state this prominently at the beginning of your comments. We will honor your request to the extent allowed by law. All comments from businesses or representatives of businesses will be open for public review.

Title: Job Placement and Training Program Application Form (changed to be consistent with other similar federal programs).

OMB approval number: 1076-0062.

Summary of Collection of Information: The collection of information provides pertinent data concerning the individual's previous training, employment background, current training, and employment plans, and is used to determine eligibility for program services.

Frequency: Applications are filed on an as-needed basis.

Description of respondents: Individual tribal members residing on or near reservations seeking training for purposes of job placement services, or job-ready individual tribal members seeking employment services.

Estimated completion time: ½ hour.

Number of Annual responses: 4,900.

Annual Burden hours: 2,450 hours.

Dated: February 25, 2004.
Dave Anderson,
Assistant Secretary—Indian Affairs.

[FR Doc. 04-5255 Filed 3-8-04; 8:45 am]

BILLING CODE 4310-4M-P